DEPARTMENT OF HEALTH AND HUMAN SERVICES

National Institutes of Health

National Cancer Institute; Amended Notice of Meeting

Notice is hereby given of a change in the meeting of the National Cancer Institute Council of Research Advocates, July 16, 2020, 1:00 p.m. to July 16, 2020, 4:00 p.m., National Institutes of Health, Building 31, 9000 Rockville Pike, Bethesda, MD, 20892 which was published in the Federal Register on June 17, 2020, 85 FR 36605.

This meeting notice is amended to change the meeting start and end times. The meeting will now be held from 12:00 p.m. to 3:30 p.m. on July 16, 2020. The meeting is open to the public.

Dated: July 6, 2020.
Melanie J. Pantoja,
Program Analyst, Office of Federal Advisory Committee Policy.

[FR Doc. 2020-14877 Filed 7-9-20; 8:45 am]

BILLING CODE 4140-01-P